SMALL BUSINESS ADMINISTRATION

[Disaster Declaration #16471 and #16472; Alabama Disaster Number AL-00106]

Presidential Declaration of a Major Disaster for Public Assistance Only for the State of Alabama

AGENCY: U.S. Small Business Administration.

ACTION: Notice.

SUMMARY: This is a Notice of the Presidential declaration of a major disaster for Public Assistance Only for the State of Alabama (FEMA-4546-DR), dated 05/21/2020.

Incident: Severe Storms and Flooding.

Incident Period: 02/05/2020 through 03/06/2020.

DATES: Issued on 05/21/2020.

Physical Loan Application Deadline Date: 07/20/2020.

Economic Injury (EIDL) Loan Application Deadline Date: 02/22/2021.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the President's major disaster declaration on 05/21/2020, Private Non-Profit organizations that provide essential services of a governmental nature may file disaster loan applications at the address listed above or other locally announced locations.

The following areas have been determined to be adversely affected by the disaster:

Primary Counties: Butler, Chambers, Choctaw, Colbert, Covington, Crenshaw, Cullman, Dallas, Fayette, Greene, Lamar, Limestone, Macon, Marion, Perry, Randolph, Tuscaloosa, Wilcox

The Interest Rates are:

| Percent
For Physical Damage:
Non-Profit Organizations With Credit Available Elsewhere | 2.750
Non-Profit Organizations Without Credit Available Elsewhere | 2.750
For Economic Injury:
Non-Profit Organizations Without Credit Available Elsewhere | 2.750

The number assigned to this disaster for physical damage is 164716 and for economic injury is 164720.

(Catalog of Federal Domestic Assistance Number 59008)

Cynthia Pitts,
Acting Associate Administrator for Disaster Assistance.

[FR Doc. 2020-11767 Filed 6-1-20; 8:45 am]

BILLING CODE 8026-03-P